DEPARTMENT OF COMMERCE

Foreign-Trade Zones Board

[B-17-2015]

Foreign-Trade Zone (FTZ) 127—West Columbia, South Carolina; Notification of Proposed Production Activity; Isola USA Corporation (Dielectric Prepreg and Copper-Clad Laminate); Ridgeway, South Carolina

The Richland-Lexington Airport District, Columbia Metropolitan Airport, grantee of FTZ 127, submitted a notification of proposed production activity to the FTZ Board on behalf of Isola USA Corporation (Isola) located in Ridgeway, South Carolina. The notification conforming to the requirements of the regulations of the FTZ Board (15 CFR 400.22) was received on March 17, 2015.

The Isola facility is located within Site 4 of FTZ 127. The facility is used to produce customized dielectric prepreg and copper-clad laminate sheets used by its customers to fabricate multilayer printed circuit boards. Pursuant to 15 CFR 400.14(b), FTZ activity would be limited to the specific foreign-status materials and components and specific finished products described in the submitted notification (as described below) and subsequently authorized by the FTZ Board.

Production under FTZ procedures could exempt Isola from customs duty payments on the foreign-status material used in export production. On its domestic sales, Isola would be able to choose the duty rates during customs entry procedures that apply to customized dielectric prepreg and copper-clad laminate sheets (duty rates—4.2% and 3%, respectively) for foreign-status electrical grade woven fiberglass rolls and bonding prepreg (duty rates—7.3% and 4.2%, respectively). Customs duties also could possibly be deferred or reduced on foreign-status production equipment.

Public comment is invited from interested parties. Submissions shall be addressed to the FTZ Board's Executive Secretary at the address below. The closing period for their receipt is May 13, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: March 27, 2015.
Elizabeth Whiteman,
Acting Executive Secretary.

[FR Doc. 2015-07718 Filed 4-2-15; 8:45 am]

BILLING CODE 3510-DS-P